ENVIRONMENTAL PROTECTION AGENCY

40 CFR Part 52

[EPA-R03-OAR-2015-0089; FRL-9925-15-Region 3]

Approval and Promulgation of Air Quality Implementation Plans; Maryland; Biomass Fuel-Burning Equipment Standards

AGENCY: Environmental Protection Agency (EPA).

ACTION: Proposed rule.

SUMMARY: The Environmental Protection Agency (EPA) is proposing to approve a State Implementation Plan (SIP) revision submitted by the State of Maryland. This revision pertains to a new regulation for biomass fuel-burning equipment and related amendments to existing regulations. This action is being taken under the Clean Air Act (CAA).

DATES: Written comments must be received on or before April 24, 2015.

ADDRESSES: Submit your comments, identified by Docket ID Number EPA-R03-OAR-2015-0089 by one of the following methods:

A. www.regulations.gov. Follow the on-line instructions for submitting comments.

B. Email: powers.marilyn@epa.gov.

C. Mail: EPA-R03-OAR-2015-0089, Marilyn Powers, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2015-0089. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Irene Shandruk, (215) 814-2166, or by email at shandruk.irene@epa.gov.

SUPPLEMENTARY INFORMATION:

I. Background

Biomass materials, which include wood residue and wood products, animal manure (including litter and other bedding materials), vegetative agricultural materials as well as silvicultural materials, can be used as fuel burned to provide heat and power. New technologies and environmental initiatives have recently increased the use of biomass material for combustion in the State of Maryland. Therefore, the Maryland Department of the Environment (MDE) has established emission standards for the combustion of biomass fuel by developing a new Code of Maryland (COMAR) regulation, COMAR 26.11.09.12—“Standards for Biomass Fuel-Burning Equipment Greater Than 350,000 British Thermal Units (Btu)/Hour (hr) Heat Input.” The typical type of equipment that is regulated under this new regulation is a boiler; however, it also applies to process heaters and other applications.

II. Summary of SIP Revision

On January 12, 2015, MDE submitted to EPA a SIP revision concerning new regulation COMAR 26.11.09.12 (Standards for Biomass Fuel-Burning Equipment Equal to or Greater Than 350,000 Btu/hr) and related amendments to regulations .01, .04, .06, .07, .09, and .10 under COMAR 26.11.09—Control of Fuel-Burning Equipment, Stationary Internal Combustion Engines, and Certain Fuel-Burning Installations. The new regulation, COMAR 26.11.09.12, Standards for Biomass Fuel-Burning Equipment Equal to or Greater Than 350,000 Btu/hr, establishes particulate matter (PM) and nitrogen oxide (NOX) emission limits (see Table 1) and additional requirements (such as compliance and record keeping and reporting) for biomass fuel-burning equipment. According to MDE, small biomass boilers will need to install PM emission controls; however, MDE asserts the NOX emission rates for biomass fuel-burning equipment can be achieved through efficient system design and do not require add-on pollution controls. MDE also asserted in the SIP submittal that new biomass fuel-burning equipment would still be subject to standards based on federal maximum achievable control technology (MACT), generally available control technology (GACT), and best available control technology (BACT) analysis. Further EPA analysis and information on the MDE regulations for this SIP submittal are provided in the Technical Support Document (TSD) with Docket ID No. EPA-R03-OAR-2015-0089.

Table 1—Emission Standards for Biomass Fuel-Burning Equipment
Heat input capacity (mmBtu/hr) | PM (pounds/mmBtu) | NOX (pounds/mmBtu)
≥10 | 0.03-0.07 | 0.25-0.30
>1.5 and <10 | 0.1-0.23 | 0.30
>0.35 and ≤1.5 | 0.1-0.35 | 0.30

MDE has submitted the new biomass fuel-burning provisions in COMAR 26.11.09.12 and revised provisions in COMAR 26.11.09.10 for inclusion in the Maryland SIP. The SIP submittal also includes revisions to COMAR 26.11.09.01 (February 22, 2011, 76 FR 9650), .04 (November 3, 1992, 57 FR 49651), .06 (July 6, 2005, 70 FR 38774), .07 (November 3, 1992, 57 FR 49651), and .09 (May 1, 2003, 68 FR 23206), which were previously included in the Maryland SIP.

III. Proposed Action

EPA's review of this material indicates that MDE's regulation provides emission limits on smaller biomass fuel-burning equipment providing PM and NOX emission reductions which will strengthen the Maryland SIP. The reductions in PM and NOX will help Maryland attain and maintain the National Ambient Air Quality Standards (NAAQS) for ozone and PM. EPA is proposing to approve Maryland's January 12, 2015 SIP revision for biomass fuel-burning equipment. EPA is soliciting public comments on the issues discussed in this document. These comments will be considered before taking final action.

IV. Incorporation by Reference

In this rulemaking, the EPA is proposing to include in a final EPA rule regulatory text that includes incorporation by reference. In accordance with requirements of 1 CFR 51.5, the EPA is proposing to incorporate by reference the Maryland rules regarding the definitions and requirements for biomass fuel-burning equipment in COMAR 26.11.09.01, .04, .06, .07, .09, .10, and .12. The EPA has made, and will continue to make, these documents generally available electronically through www.regulations.gov and/or in hard copy at the EPA Region III office (see the ADDRESSES section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule pertaining to Maryland's biomass fuel-burning equipment standards does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen dioxide, Ozone, Particulate matter, Reporting and recordkeeping requirements.

Authority: 42 U.S.C. 7401 et seq.

Dated: March 10, 2015.
William C. Early,
Acting Regional Administrator, Region III.

[FR Doc. 2015-06856 Filed 3-24-15; 8:45 am]

BILLING CODE 6560-50-P